ENVIRONMENTAL PROTECTION AGENCY

40 CFR Part 63

[FRL-7241-6]

RIN 2060-AH41

National Emission Standards for Hazardous Air Pollutants: Site Remediation

Correction

In proposed rule document 02-17360 beginning on page 49398 in the issue of July 30, 2002 make the following correction:

On page 49398, the first column, in the DATES section, in the fifth line, “September 19, 2002” should read “August 19, 2002”.

[FR Doc. C2-17360 Filed 8-8-02; 8:45 am]

BILLING CODE 1505-01-D

DEPARTMENT OF HEALTH AND HUMAN SERVICES

Agency for Healthcare Research and Quality

Request for Measures of Patients' Hospital Care Experiences

Correction

In notice document 02-18710 beginning on page 48477 in the issue of Wednesday, July 24, 2002 make the following corrections:

1. On page 48478, in the first column, in the 9th line “a standard that would be used nation” should read “a standard for measuring and publicly reporting patients' hospital care experiences”.

2. On the same page, in the same column, under DATES, in the first line “subject” should read “submit”.

3. On page 48479, in the first column, in the third paragraph, in the first line “effect” should read “effort”.

[FR Doc. C2-18710 Filed 8-8-02; 8:45 am]

BILLING CODE 1505-01-D

DEPARTMENT OF TRANSPORTATION

National Highway Traffic Safety Administration

49 CFR Part 571

[DOT Docket No. NHTSA-02-12845]

RIN: 2127-AH71

Federal Motor Vehicle Safety Standards; Accelerator Control Systems

Correction

In proposed rule document 02-18477 beginning on page 48117 in the issue of Tuesday, July 23, 2002, make the following corrections:

§ 571.124 [Corrected]

1. On page 48128, in § 571.124, in the second column, in paragraph S5.3.2, in the fourth line, “ “18 degrees Celsius to “40 degrees” should read, “-18 degrees Celsius to -40 degrees”.

2. On the same page, in the same section, in the third column, in paragraph S6.1.9, in the third line, “ “40 degrees Celsius” should read, “-40 degrees Celsius”.

[FR Doc. C2-18477 Filed 8-8-02; 8:45 am]

BILLING CODE 1505-01-D

DEPARTMENT OF THE TREASURY

Customs Service

19 CFR Part 122

[T.D. 02-40]

RIN 1515-AD04

Access to Customs Security Areas at Airports

Correction

In rule document 02-19055 beginning on page 48977 in the issue of Monday, July 29, 2002 make the following corrections:

1. On page 48980, in the third column, in paragraph 5., in the seventh line, “during the 14” should read “during the”.

§122.182 [Corrected]

2. On page 48985, in the first column, in §122.182, in paragraph (c), in the sixth line from the bottom, “bond 29” should read “bond does not”.

§122.184 [Corrected]

3. On page 48986, in the second column, in §122.184, in paragraph (b), in the fifth line, “arrest or 36” should read “arrest or”.

§122.187 [Corrected]

4. On page 48987, in the second column, in §122.187, in paragraph (b), in the seventh line, “the 40 employee” should read “the employee”.

5. On the same page, in the third column, in the same section, in paragraph (b)(2)(ii), in the 14th line, “he may 24 choose” should read “may choose”.

6. On page 48988, in the first column, in §122.187, in paragraph (c)(2)(i), in the ninth line, “genuine 43” should read “genuine”.

7. On the same page, in the same column, in the same section, in paragraph (d), in the fifth line, “if the 44 affected” should read “if the affected”.

[FR Doc. C2-19055 Filed 8-8-02; 8:45 am]

BILLING CODE 1505-01-D